DEPARTMENT OF AGRICULTURE

Agricultural Marketing Service

[TM-03-01]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: May 13, 2003, 8 a.m. to 6:30 p.m., and May 14, 2003, 8 a.m. to 5 p.m. Requests from individuals and organizations wishing to make an oral presentation at the meeting are due by the close of business on April 28, 2003.

ADDRESSES: The meeting will take place at the Radisson Hotel and Suites, The Travis Room, 111 E. Cesar Chavez, Austin, Texas. Requests for copies of the NOSB meeting agenda, requests to make an oral presentation at the meeting, or written comments may be sent to Ms. Katherine Benham at USDA-AMS-TMD-NOP, 1400 Independence Avenue, SW., Room 4008-So., Ag Stop 0268, Washington, DC 20250-0200. Requests to make an oral presentation at the meeting may also be sent electronically to Ms. Katherine Benham at katherine.benham@usda.gov.

FOR FURTHER INFORMATION CONTACT: Richard Mathews, Program Manager, National Organic Program, (202) 720-3252.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production and to advise the Secretary on other aspects of the implementation of the OFPA. The NOSB met for the first time in Washington, DC, in March 1992, and currently has six committees working on various aspects of the organic program. The committees are: Accreditation, Crops, Livestock, Materials, Processing, and International.

In August of 1994, the NOSB provided its initial recommendations for the National Organic Program (NOP) to the Secretary of Agriculture. Since that time, the NOSB has submitted 47 addenda to its recommendations and reviewed more than 246 substances for inclusion on the National List of Allowed and Prohibited Substances. The last meeting of the NOSB was held on October 19-20, 2002, in Washington, DC.

The Department of Agriculture (USDA) published its final National Organic Program regulation in the Federal Register on December 21, 2000 (65 FR 80548). The rule became effective April 21, 2001.

The principal purposes of the meeting are to provide an opportunity for the NOSB to: receive an update from the USDA/NOP, receive various committee reports, hear a presentation from USDA, AMS Audit Review and Compliance Branch, receive reports from the Board Policy Task Force, Composting Task Force, and Inerts Task Force, and review materials to determine if they should be included on the National List of Allowed and Prohibited Substances.

The Livestock Committee will present for NOSB consideration its recommendations on breeder stock replacement; fiber bearing animal standards; dairy animal replacement standards; clarification of requirements for reviewing livestock materials; and review of Ivermectin for removal from, and review of Benzimidazole for addition, to the National List (parasiticides). The Livestock Committee will also report on alternative feed supplements to DL—Methionine. The Materials Committee will explain the materials review process and report on the status of current petitioned materials. The Materials Committee will also present for NOSB consideration 15 materials for possible inclusion on the National List of Allowed and Prohibited Substances. The Processing Committee will present for NOSB consideration its recommendations regarding the food contact substance policy, and clarification of the use of chlorine in direct contact with organic food. The Processing Committee will also present a report on differentiation of handling and processing for producers and retailers. The Crops Committee will present for NOSB consideration its recommended guidance document for hydropondic production. Finally, the Accreditation Committee will present for NOSB consideration its recommendation on minor non-compliances.

Materials to be reviewed at the meeting by the NOSB are as follows: for Crop Production: Tetrahydrofurfuryl Alcohol, Potassium Silicate, Phosphoric Acid, and Glycerine Oleate/Glycerine Monooleate; for Livestock Production: Proteinated Chelates, Calcium Propionate, Furosemide, Mineral Oil, Atropine, and Moxidectin; and for Processing: Egg White Lysozyme, Nitrous Oxide, Malic Acid, Sodium Acid Pyrophosphate, and Microorganisms.

For further information, see http://www.ams.usda.gov/nop. Copies of the NOSB meeting agenda can be requested from Ms. Katherine Benham by telephone at (202) 205-7806; or by accessing the NOP Web site at http://www.ams.usda.gov/nop.

The meeting is open to the public. The NOSB has scheduled time for public input on Tuesday, May 13, 2003, from 9 a.m. until 11:10 a.m.; and Wednesday, May 14, 2003, from 8 a.m. until 9 a.m. Individuals and organizations wishing to make an oral presentation at the meeting may forward their request by facsimile to Ms. Katherine Benham at (202) 205-7808. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: April 28, 2003.
A.J. Yates,
Administrator, Agricultural Marketing Service.

[FR Doc. 03-10871 Filed 4-30-03; 8:45 am]

BILLING CODE 3410-02-P